DEPARTMENT OF THE INTERIOR

Bureau of Land Management

[LLNM004000 L54200000.FR0000 LVDIG18ZGKQ0 18X]

Notice of Application for a Recordable Disclaimer of Interest: Tarrant County, Texas

AGENCY: Bureau of Land Management, Department of the Interior.

ACTION: Notice of application.

SUMMARY: The Bureau of Land Management (BLM) received an application for a Recordable Disclaimer of Interest (Disclaimer of Interest) from Frances Corn Chandler, Howard Fielding Chandler, Alexander Marr Chandler, Lewis Matthews Chandler, Jere Jean Yeager, and Kathryn Louise Kronawitter, heirs of Virginia C. Yeager and Opal Keating, pursuant to the Federal Land Policy and Management Act of 1976, as amended, and BLM regulations, for certain mineral estate in Tarrant County, Texas. This notice is intended to inform the public of the pending application, give notice of the BLM's intention to grant the Disclaimer of Interest and provide a public comment period for the Disclaimer of Interest.

DATES: Comments on this action should be received by January 8, 2020.

ADDRESSES: Written comments must be sent to the Deputy State Director, Lands and Resources, BLM, New Mexico State Office, 301 Dinosaur Trail, Santa Fe, NM 87508. Comments, including names and street addresses of commenters, will be available for public review at the BLM New Mexico State Office, during regular business hours, Monday through Friday, except Federal holidays. Additional information pertaining to this application can be reviewed in case file TXNM138111 in the BLM Oklahoma Field Office, 201 Stephenson Parkway, Room 1200, Norman, OK 73072-2037.

FOR FURTHER INFORMATION CONTACT: John Ledbetter, Realty Specialist, BLM Oklahoma Field Office; telephone: 405-579-7172; email: jledbetter@blm.gov. Persons who use a telecommunications device for the deaf (TDD) may call the Federal Relay Service (FRS) at 1-800-877-8339 to contact the above individual during normal business hours. The Service is available 24 hours a day, 7 days a week, to leave a message or question with the above individual. You will receive a reply during normal business hours.

SUPPLEMENTARY INFORMATION: The purpose of this Disclaimer of Interest is to remove a cloud on the title of a mineral interest of a parcel of land situated in Tarrant County, Texas.

The BLM received an application for a Disclaimer of Interest from the heirs of Virginia C. Yeager and Opal Keating for the mineral estate of land lying near the U.S. Army, Corps of Engineers' (Corps) Benbrook Lake in Tarrant County, Texas. This is a subsequent application from these applicants and pertains to a second mineral interest lying adjacent to the mineral estate that was the subject of the applicants' initial Disclaimer of Interest. The mineral estate subject to the initial application is identified as Tract C-214 and a portion of Tract C-215 located within the John T. Gilliland Survey (A-610) and the William Hunter Survey (A-734). The resulting Disclaimer of Interest disclaimed any interest the United States may have had in Tract C-214 and a portion of Tract C-215. This Disclaimer of Interest, issued in 2016, was executed by the BLM based upon the opinions of the U.S. Attorney General, Corps, and the BLM acknowledging the minerals underlying the Hunter and Gilliland surveys were severed from the surface estate in 1922 via the mineral deed from J.W. Corn to Virginia C. Yeager and Opal Keating as recorded in Volume 745, Page 578, Tarrant County, Texas; and the mineral interest under the Hunter and Gilliland surveys was never acquired by the Corps.

The pending second application from the heirs of Yeager and Keating addresses the mineral estate under the Hunter and Gilliland surveys within Corps Tract B-115. Tract B-115 is located within seven separate surveys and has multiple, complex chains of title for the various parcels making up Tract B-115. The applicants' second application seeks a Disclaimer of Interest for the western portions of Tract B-115 that are within the Gilliland and Hunter surveys only. The applicants are making no claim to the minerals in the eastern portion of Tract B-115 that are within the other five surveys. A review of the land status records and title records provided by the applicants indicate that the Corps purchased Tract B-115 in May 1950. As was the case in the initial Disclaimer of Interest, prior to the Corps' acquisition of Tract B-115, the mineral estate was transferred from J.W. Corn to his daughters, and the Corps did not acquire the mineral estate under Tract B-115. In order to remove the cloud on the title, the BLM intends to disclaim the land described as:

All that portion of Tract B-115, located within the John T. Gilliland Survey, A-610, and the William Hunter Survey, A-734 (minerals only).

Tract B-115, situated in the County of Tarrant, State of Texas, the Tract described is shown upon a portion the U.S. Army, Corps, Office of the Fort Worth District Engineer, Southwest Project Map, entitled “REAL ESTATE BENBROOK LAKE,” dated November 5, 1986, supplementing this Disclaimer of Interest. The area contains 73.12 acres as identified by the Corps documents listed above.

This Disclaimer of Interest does not address any surface interest that may still be vested with the United States of America.

The public is hereby notified that comments may be submitted to the Deputy State Director, Lands and Resources, at the address shown earlier within the comment period identified in this notice. Any adverse comments will be evaluated by the State Director who may modify or vacate this action and issue a final determination.

In the absence of any valid objection, this notice will become the final determination of the Department of the Interior and a Disclaimer of Interest may be issued 90 days from publication of this notice.

Before including your address, phone number, email address, or other personal identifying information in your comment, you should be aware that your entire comment—including your personal identifying information—may be made publicly available at any time. While you can ask us in your comment to withhold your personal identifying information from public review, we cannot guarantee that we will be able to do so.

(Authority: 43 CFR 1864.2(a))

Melanie G. Barnes,
Deputy State Director, Land and Resources.

[FR Doc. 2019-22219 Filed 10-9-19; 8:45 am]

BILLING CODE 4310-FB-P